FEDERAL TRADE COMMISSION

Agency Information Collection Activities; Submission for OMB Review; Comment Request; Extension

Correction

In notice document 2018-15979, appearing on pages 35477 through 35485 in the issue of Thursday, July 26, 2018, make the following correction:

On page 35481, the heading of the first table should read “Regulation E: Recordkeeping and Disclosures—Cost”.

[FR Doc. C1-2018-15979 Filed 8-3-18; 8:45 am]

BILLING CODE 1301-00-D